DEPARTMENT OF DEFENSE

Office of the Secretary

[Docket ID: DoD-2021-OS-0129]

Submission for OMB Review; Comment Request

AGENCY: Office of the Under Secretary of Defense for Personnel and Readiness (USD(P&R)), Department of Defense (DoD).

ACTION: Emergency information collection notice.

SUMMARY: Consistent with the Paperwork Reduction Act of 1995 and its implementing regulations, this document provides notice DoD is submitting an Information Collection Request to the Office of Management and Budget (OMB) to collect information on barriers and facilitators to minority participation in special operations and other identified units, as congressionally directed in the Fiscal Year (FY) 2021 National Defense Authorization Act (NDAA). DoD requests emergency processing and OMB authorization to collect the information after publication of this Notice for a period of six months.

DATES: Comments must be received by January 31, 2022.

ADDRESSES: The Department has requested emergency processing from OMB for this information collection request by 30 days after publication of this notice. Interested parties can access the supporting materials and collection instrument as well as submit comments and recommendations to OMB at www.reginfo.gov/public/do/PRAMain. Find this particular information collection by selecting “Currently under 30-day Review—Open for Public Comments” or by using the search function. Comments submitted in response to this notice will be summarized and included in the request for OMB approval of this information collection. They will also become a matter of public record.

FOR FURTHER INFORMATION CONTACT: Angela Duncan, 571-372-7574, whs.mc-alex.esd.mbx.dd-dod-information-collections@mail.mil.

SUPPLEMENTARY INFORMATION: Section 557 of the Fiscal Year 2021 National Defense Authorization Act requires USD(P&R) to sponsor a federally funded research and development center to assess existing barriers to minority participation in elite units, including Special Operations Forces (SOF) and pilot and navigator military occupational specialties. A RAND study, published in 1999, found that ethnic/racial minorities are underrepresented in SOF, compared to their representation in other military specialties, and recommended a range of actions DoD could take to address the barriers minorities face in securing equal participation in these units. Section 557 calls for a reexamination of minority representation in SOF and an expansion of past research to assess additional elite units (pilot/navigator specialties) and gender representation now that combat restrictions for women have been eliminated.

For this effort, focus groups will be conducted on topics that include recruitment, accession and training, culture and climate, and career progression; a small set of closed-ended and open-ended survey questions completed individually at the end of the session will also be included. Some focus groups will be conducted on military bases where members of the identified units serve and some focus groups will be conducted using an online platform that meets government compliance and security standards (Microsoft Teams or Zoom for Government, and Qualtrics, which has met the security standards required for government use (i.e., Federal Risk and Authorization Management Program)). This study will inform DoD on how to enhance operational capabilities of these units by promoting diversity and inclusion.

Title; Associated Form; and OMB Number: Study on Reducing Barriers to Minority Participation in Elite Units in the Armed Services; 0704-RBMP.

Type of Request: New.

Number of Respondents: 500.

Responses per Respondent: 1.

Annual Responses: 500.

Average Burden per Response: 1 hour.

Annual Burden Hours: 500 hours.

Affected Public: Individuals or households.

Frequency: Once.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: December 27, 2021.
Kayyonne T. Marston,
Alternate OSD Federal Register Liaison Officer, Department of Defense.

[FR Doc. 2021-28364 Filed 12-29-21; 8:45 am]

BILLING CODE 5001-06-P